ENVIRONMENTAL PROTECTION AGENCY

[FRL-8950-3]

Science Advisory Board Staff Office; Notification of an Upcoming Teleconference of the Science Advisory Board Committee on Science Integration for Decision Making

AGENCY: Environmental Protection Agency (EPA).

ACTION: Notice.

SUMMARY: The Environmental Protection Agency (EPA or Agency) Science Advisory Board (SAB) Staff Office announces a public teleconference of the SAB Committee on Science Integration for Decision Making.

DATES: The teleconference date is Wednesday, September 16, 2009 from 1 p.m. to 3 p.m. (Eastern Time).

ADDRESSES: The meeting will be conducted by telephone only.

FOR FURTHER INFORMATION CONTACT: Members of the public who wish to obtain further information about this teleconference must contact Mr. Thomas Miller, Designated Federal Officer (DFO). Mr. Miller may be contacted at the EPA Science Advisory Board (1400F), U.S. Environmental Protection Agency, 1200 Pennsylvania Avenue, NW., Washington, DC 20460; or via telephone/voice mail; (202) 343-9982; fax (202) 233-0643; or e-mail at miller.tom@epa.gov. General information about the EPA SAB, as well as any updates concerning the teleconference announced in this notice, may be found on the SAB Web site at http://www.epa.gov/sab.

SUPPLEMENTARY INFORMATION: Pursuant to the Federal Advisory Committee Act, 5 U.S.C., App. 2 (FACA), notice is hereby given that the SAB Committee on Science Integration for Decision Making will hold a public teleconference to complete its work plan for an evaluative study of EPA scientific assessment practices for decision making. The SAB was established pursuant to 42 U.S.C. 4365 to provide independent scientific and technical advice to the Administrator on the technical basis for Agency positions and regulations. The SAB is a Federal Advisory Committee chartered under FACA. The SAB will comply with the provisions of FACA and all appropriate SAB Staff Office procedural policies.

Background: The Committee for Science Integration for Decision Making met on June 9-10, 2009 in Washington, DC to begin its work on this study (see 74 FR 23187). Additional information on the study and the meeting may be found on the SAB Web site at http://yosemite.epa.gov/sab/sabproduct.nsf/fedrgstr_activites/Science%20Integration?OpenDocument. EPA uses many kinds of scientific assessments for policy analysis and decision making. In a study published in 2000, the SAB found that an integrated approach to scientific assessment and decision making was needed to effectively address new and complex environmental problems (see the SAB's report, Toward Integrated Environmental Decision-Making on the SAB Web site at http://www.epa.gov/sab). Previous studies by the National Research Council (NRC) also recommended improvements to EPA scientific assessment practices. In its 2008 report, Science and Decisions: Advancing Risk Assessment (National Academies Press, Washington, DC), the NRC recommended improvements in EPA's risk assessment processes to address the complexities of current problems and improve the utility of assessments in decision making. The SAB is undertaking a new study at the request of the EPA Administrator to evaluate the extent to which scientific assessment practices are integrated into and for EPA's environmental decision-making processes. The study will build upon the findings of the previous SAB and NRC studies, and recommend actions that EPA could take to improve the integration of scientific assessments for decision making. The purpose of this teleconference is to complete the Committee's study plan.

Availability of Meeting Materials: The teleconference agenda and other material in support of this teleconference are posted on the SAB Web site at http://www.epa.gov/sab.

Procedures for Providing Public Input: Interested members of the public may submit relevant written or oral information on the topic of this advisory activity, and/or the group conducting the activity, for the SAB to consider during the advisory process.

Oral Statements: In general, individuals or groups requesting an oral presentation at a public teleconference will be limited to three minutes per speaker, with no more than a total of one hour for all speakers. Interested parties should contact Mr. Miller, DFO, in writing (preferably via e-mail) at the contact information noted above, by September 14, 2009 be placed on a list of public speakers for the meeting. Written Statements: Written statements should be received in the SAB Staff Office by September 14, 2009 so that the information may be made available to the SAB Panel members for their consideration. Written statements should be supplied to the DFO in the following formats: one hard copy with original signature, and one electronic copy via e-mail (acceptable file format: Adobe Acrobat PDF, WordPerfect, MS Word, MS PowerPoint, or Rich Text files in IBM-PC/Windows 98/2000/XP format). Submitters are requested to provide two versions of each document submitted with and without signatures, because the SAB Staff Office does not publish documents with signatures on its Web sites.

Accessibility: For information on access or services for individuals with disabilities, please contact Mr. Miller at the phone number or e-mail address noted above, preferably at least ten days prior to the meeting to give EPA as much time as possible to process your request.

Dated: August 20, 2009.
Anthony F. Maciorowski,
Deputy Director, EPA Science Advisory Board Staff Office.

[FR Doc. E9-20738 Filed 8-26-09; 8:45 am]

BILLING CODE 6560-50-P